DEPARTMENT OF ENERGY

Federal Energy Regulatory Commission

[Docket No. RP02-114-001]

Tennessee Gas Pipeline Company; Notice of Cash-Out Report

February 22, 2002.

Take notice that on February 15, 2002, Tennessee Gas Pipeline Company (Tennessee) tendered for filing its revised refund plan to its Cashout Report for the period September 2000 through August 2001.

Tennessee's Cashout Report reflects a net cashout gain of $10,600,893. Pursuant to its tariff, Tennessee proposes to credit $2,448,806 to the Supply Area Volumetric Surcharge Account and $31,608 to the Market Area Volumetric Surcharge Account. Tennessee proposes to refund the remaining amount to firm shippers pro rata based on contract quantities in effect from September 1, 2000 through August 31, 2001.

Any person desiring to protest said filing should file a protest with the Federal Energy Regulatory Commission, 888 First Street, NE., Washington, DC 20426, in accordance with section 385.211 of the Commission's Rules and Regulations. All such protests must be filed on or before March 5, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4764 Filed 2-27-02; 8:45 am]

BILLING CODE 6717-01-P